AGENCY FOR INTERNATIONAL DEVELOPMENT

Notice of Meeting

Pursuant to the Federal Advisory Committee Act, notice is hereby given of a meeting of the Advisory Committee on Voluntary Foreign Aid (ACVFA).

Date: Wednesday, October 24, 2007 (9 a.m. to 3 p.m.).

Location: National Press Club Ballroom, 529 14th Street, NW., Washington, DC 20045.

Please note that this is the anticipated agenda and is subject to change.

ACVFA Working Groups: The ACVFA has created working groups corresponding to two objectives of the U.S. foreign assistance framework: humanitarian assistance and investing in people. The two working groups will present draft papers with recommendations and lessons learned.

Following this, respondents from the foreign assistance community will provide feedback. In addition, the general public will be given the opportunity to provide comments and pose questions. The working groups' final recommendations will be made available on the ACVFA Web site in early December: http://www.usaid.gov/about_usaid/acvfa.

Keynote: USAID Acting Administrator and Acting Director of United States Foreign Assistance Henrietta H. Fore has been invited to address the ACVFA on Transformational Diplomacy and the Foreign Assistance reforms.

HELP Commission: Gayle Smith and William Lane, two members of the Helping to Enhance the Livelihood of People Around the Globe (HELP) Commission, a bi-partisan Commission tasked by Congress to review U.S. foreign assistance programs and make actionable recommendations on reform to the President, Secretary of State and Congress, have been invited to address the ACVFA on the Commission's forthcoming recommendations.

Mission Directors: USAID Mission Directors from Latin America, Africa, and Asia have been invited to speak about the implementation of the foreign assistance reforms as seen on the ground.

The meeting is free and open to the public. Persons wishing to attend the meeting can register online at http://www.usaid.gov/about_usaid/acvfa or with Hannah Kim of the Hill Group at hkim@thehillgroup.com or 301-897-2789 ext. 124, or with Jocelyn Rowe at jrowe@usaid.gov or 202-712-4002.

Dated: September 28, 2007.
Jocelyn M. Rowe,
Executive Director, Advisory Committee on Voluntary Foreign Aid (ACVFA), U.S. Agency for International Development.

[FR Doc. E7-19687 Filed 10-4-07; 8:45 am]

BILLING CODE 6116-01-P